DEPARTMENT OF AGRICULTURE

Submission for OMB Review; Comment Request

November 16, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 22, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: CCC's Export Credit Guarantee Program (GSM-102).

OMB Control Number: 0551-0004.

Summary of Collection: The Export Credit Guarantee Program (GSM-102) is administered by the Commodity Credit Corporation (CCC) of the U.S. Department of Agriculture. This program provides guarantees to exporters in order to maintain and increase overseas importers ability to purchase U.S. agricultural goods. The Export Credit Guarantee Program underwrites credit extended by U.S. private banks to approved foreign banks using dollar-denominated, irrevocable letters of credit. The Foreign Agricultural Service (FAS) will collect information from the guarantee application submitted by the participants in writing (via fax or email) or mail.

Need and Use of the Information: FAS will collect information from participating U.S. exporters in order to determine the exporter's eligibility for program benefits. The information collection is necessary to enable exporters, U.S. banks and foreign banks to receive the benefits of the program and to allow CCC to comply with the Federal Funding Accountability and Transparency Act, the Debt Collection Improvement Act, and non-procurement suspension and debarment regulations found at 2 CFR Pars 180 and 417. If the information were not collected CCC would be unable to determine if export sales under the program would be eligible for coverage or, if coverage conformed to program requirements.

Description of Respondents: Business or other for-profit.

Number of Respondents: 88.

Frequency of Responses: Record keeping, Reporting: On occasion.

Total Burden Hours: 1,423.

Foreign Agricultural Service

Title: Food Donation Programs (Food for Progress & Section 416(b) and McGovern-Dole International Food for Education and Child Nutrition Program).

OMB Control Number: 0551-0035.

Summary of Collection: The U.S. Department of Agriculture's Foreign Agricultural Service (FAS) provides U.S. agricultural commodities to feed millions of hungry people in needy countries through direct donations and concessional programs. USDA Food aid may be provided through four program authorities: Food for Progress authorized by the Food for Progress Act of 1985, Section 416(b); and the McGovern-Dole International Food for Education and Child Nutrition Program is authorized by the Food, Conservation, and Energy Act of 2008 and Public Law 480.

Need and Use of the Information: FAS will collect information from Recipients desiring to receive grants under the programs to determine their ability to carry out a food aid program, to establish the terms under which the commodities will be provided, to monitor the progress of commodity distribution (including how transportation is procured), to monitor the progress of expenditure of monetization funds, and to evaluate both the program's success and the participant's effectiveness in meeting the agreed upon goals. Information is also collected from ship owners/brokers shipping the commodity to its destination.

Description of Respondents: Not for-profit institutions; Business or other for-profit.

Number of Respondents: 61.

Frequency of Responses: Recordkeeping; Reporting: Semi-annually; Quarterly; Monthly.

Total Burden Hours: 89,287.

Ruth Brown,
Departmental Information Collection Clearance Officer.

[FR Doc. 2017-25206 Filed 11-21-17; 8:45 am]

BILLING CODE 3410-10-P